DEPARTMENT OF COMMERCE

International Trade Administration

[A-489-826]

Certain Hot-Rolled Steel Flat Products From the Republic of Turkey: Final Results of Antidumping Duty Administrative Review and Final Determination of No Shipments; 2016-2017

AGENCY: Enforcement and Compliance, International Trade Administration, Department of Commerce.

SUMMARY: The Department of Commerce (Commerce) determines that certain hot-rolled steel flat products from the Republic of Turkey (Turkey) were not sold at less than normal value during the period of review (POR), March 22, 2016 through September 30, 2017.

DATES: Applicable June 27, 2019.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On November 14, 2018, Commerce published the Preliminary Results of this review in the Federal Register.¹ We invited interested parties to comment on the Preliminary Results. Between December 14 and 21, 2018, Commerce received timely filed briefs and rebuttal briefs from the petitioners ² and Colakoglu Metalurji A.S. and Colakoglu Dis Ticaret A.S (collectively, Colakoglu).³

¹ See Certain Hot-Rolled Steel Flat Products from the Republic of Turkey: Preliminary Results of Antidumping Duty Administrative Review and Preliminary Determination of No Shipments; 2016-2017, 83 FR 56805 (November 14, 2018) (Preliminary Results) and accompanying Preliminary Decision Memorandum.

² The petitioners are ArcelorMittal USA LLC, AK Steel Corporation, Nucor Corporation, California Steel Industries, Steel Dynamics, Inc., Thomas Steel Strip Corporation, and United States Steel Corporation (collectively, the petitioners).

³ See Petitioners' Letter, “Certain Hot-Rolled Steel Flat Products from Turkey—Petitioners' Case Brief Regarding Colakoglu,” dated December 14, 2018; see also Colakoglu's Letter, “Certain Hot-Rolled Steel Flat Products from the Republic of Turkey: Colakoglu's Case Brief,” dated December 14, 2018; Petitioners' Letter, “Certain Hot-Rolled Steel Flat Products from Turkey—Petitioners' Rebuttal Brief Regarding Colakoglu,” dated December 21, 2018; and Colakoglu's Letter, “Certain Hot-Rolled Steel Flat Products from the Republic of Turkey: Colakoglu's Rebuttal Brief,” dated December 21, 2018.

Commerce exercised its discretion to toll all deadlines affected by the partial federal government closure from December 22, 2018 through the resumption of operations on January 29, 2019.⁴ Commerce tolled all such deadlines by 40 days, and if the new deadline falls on a non-business day, in accordance with Commerce's practice, the deadline will become the next business day. Furthermore, on both April 9, 2019, and May 22, 2019, Commerce extended the deadline for these final results.⁵ Accordingly, the revised deadline for these final results is June 21, 2019.

⁴ See Memorandum to the Record from Gary Taverman, Deputy Assistant Secretary for Antidumping and Countervailing Duty Operations, performing the non-exclusive duties of the Assistant Secretary for Enforcement and Compliance, “Deadlines Affected by the Partial Shutdown of the Federal Government,” dated January 28, 2019. All deadlines in this segment of the proceeding have been extended by 40 days.

⁵ See Memorandum, “Certain Hot-Rolled Steel Flat Products from the Republic of Turkey: Extension of Deadline for Final Results of Antidumping Duty Administrative Review; 2016-2017,” dated April 9, 2019; see also Memorandum, “Certain Hot-Rolled Steel Flat Products from the Republic of Turkey: Extension of Deadline for Final Results of Antidumping Duty Administrative Review; 2016-2017,” dated May 22, 2019.

These final results cover 11 producers or exporters of the subject merchandise as listed in the “Final Results of the Review” section of this notice. Commerce conducted this review in accordance with section 751(a) of the Tariff Act of 1930, as amended (the Act).

Scope of the Order ⁶

⁶ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

The merchandise covered by the order is certain hot-rolled steel flat products. For a complete description of the scope of this order, see the Issues and Decision Memorandum.⁷

⁷ See Memorandum, “Issues and Decision Memorandum for the Final Results of Antidumping Duty Administrative Review of Certain Hot-Rolled Steel Flat Products from Republic of Turkey 2016-2017,” dated concurrently with, and hereby adopted by, this notice (Issues and Decision Memorandum).

Final Determination of No Shipments

In the Preliminary Results, Commerce determined that Gazi Metal Mamulleri Sanayi Ve Ticaret A.S. (Gazi), Toscelik Profile and Sheet Ind. Co. (a.k.a. Toscelik Profil ve Sac endustrisi A.S.) and Tosyali Holding A.S. (collectively, Toscelik), and Eregli Demir ve Celik Fabrikalari T.A.S. and Iskenderun Iron and Steel Works Ltd. (a.k.a. Iskenderun Demir ve Celik A.S.) (collectively, Erdemir) had no shipments of the subject merchandise during the POR. As no party has identified any record evidence which would call into question these preliminary findings, we continue to find that Gazi, Toscelik, and Erdemir made no shipments of subject merchandise during the POR. Accordingly, consistent with our practice, we intend to instruct U.S. Customs and Border Protection (CBP) to liquidate any existing entries of subject merchandise associated with these companies consistent with Commerce's reseller policy.⁸

⁸ See Antidumping and Countervailing Duty Proceedings: Assessment of Antidumping Duties, 68 FR 23954 (May 6, 2003) (Assessment Policy).

Analysis of the Comments Received

We addressed all issues raised in the case and rebuttal briefs in the Issues and Decision Memorandum, which is hereby adopted with this notice. A list of these issues is attached in an appendix to this notice. The Issues and Decision Memorandum is a public document and is on file electronically via Enforcement and Compliance's Antidumping and Countervailing Duty Centralized Electronic Service System (ACCESS). ACCESS is available to registered users at http://access.trade.gov and it is available to all parties in the Central Records Unit, Room B8024 of the main Commerce building. In addition, a complete version of the Issues and Decision Memorandum can be accessed directly at http://enforcement.trade.gov/frn/index.html. The signed Issues and Decision Memorandum and the electronic versions of the Issues and Decision Memorandum are identical in content.

Changes Since the Preliminary Results

Based on our analysis of the comments received, we made certain changes to the Preliminary Results. For a full discussion of these changes, see the Issues and Decision Memorandum.

Rate for Non-Examined Companies

The statute and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.” However, section 735(c)(5)(B) of the Act states that if the weighted-average dumping margins for all individually examined exporters or producers are zero or de minimis or based entirely on facts available, then Commerce may use “any reasonable method” to establish the all-others rate, including averaging the weighted-average dumping margins for the individually examined companies.

Consistent with section 735(c)(5)(B) of the Act, we have determined that a reasonable method for determining the weighted-average dumping margin for each of the non-selected companies is to use the weighted-average dumping margin calculated for the sole mandatory respondent (i.e., Colakoglu) in this administrative review. Although the weighted-average dumping margin calculated for Colakoglu is zero, it is the only rate calculated in this review and, thus, Commerce has determined the weighted-average dumping margin for the non-examined companies to be zero.⁹

⁹ See Certain Lined Paper Products from India: Final Results of Antidumping Duty Administrative Review; 2016-2017, 84 FR 23017 (May 21, 2019).

Final Results of the Review

Commerce determines that the following weighted-average dumping margins exist for the period March 22, 2016 through September 30, 2017:

Producer or exporter | Weighted- average dumping margin (percent)
Colakoglu Metalurji A.S. and Colakoglu Dis Ticaret A.S | 0.00
Agir Haddecilik A.S | 0.00
Habas Industrial and Medical Gases Production Industries Inc | 0.00
Habas Sinai ve Tibbi Gazlar Istihsal Endustrisi | 0.00
MMK Atakas Metalurji | 0.00
Ozkan Iron and Steel Ind | 0.00

Disclosure

We intend to disclose the calculations performed for these final results of review within five days of the publication date of this notice in the Federal Register, in accordance with 19 CFR 351.224(b).

Assessment

Pursuant to section 751(a)(2)(C) of the Act and 19 CFR 351.212(b), Commerce shall determine, and CBP shall assess, antidumping duties on all appropriate entries of subject merchandise in accordance with the final results of this review. Commerce intends to issue assessment instructions to CBP 15 days after the date of publication of the final results of this administrative review in the Federal Register.

For Colakoglu and for each of the non-examined companies identified above, we will instruct CBP to liquidate its entries during the POR imported by the importers identified in its questionnaire responses without regard to antidumping duties because each company's weighted-average dumping margin in these final results is zero.¹⁰

¹⁰ See Antidumping Proceeding: Calculation of the Weighted-Average Dumping Margin and Assessment Rate in Certain Antidumping Duty Proceedings; Final Modification, 77 FR 8103, 8103 (February 14, 2012).

Consistent with Commerce's assessment practice, for entries of subject merchandise during the POR produced by Gazi, Toscelik, Erdemir, and any other company upon which we examined in this administrative review (i.e., Colakoglu) for which they did not know that the merchandise was destined for the United States, we will instruct CBP to liquidate unreviewed entries at the all-others rate if there is no rate for the intermediate company(ies) involved in the transaction.¹¹

¹¹ For a full discussion of this practice, see Assessment Policy.

We intend to issue instructions to CBP 15 days after the date of publication of the final results of this review.

Cash Deposit Requirements

The following cash deposit requirements will be effective for all shipments of subject merchandise entered, or withdrawn from warehouse, for consumption on or after the publication date of the final results of this administrative review, as provided by section 751(a)(2)(C) of the Act: (1) For the companies identified above in the Final Results of Review section, the cash deposit rates will be equal to the weighted-average dumping margins established in the final results of this review, except where the weighted-average dumping margin is de minimis (i.e., less than 0.5 percent) the cash deposit rate will be zero; (2) for previously reviewed or investigated companies not participating in this review, the cash deposit rate will continue to be the company-specific rate published for the most recently completed segment of this proceeding; (3) if the exporter is not a firm covered in this review, a previous review, or the original LTFV investigation, but the producer is, the cash deposit rate will be the rate established for the most recently completed segment of this proceeding for the producer of subject merchandise; and (4) the cash deposit rate for all other producers or exporters will continue to be 6.41 percent, the all-others rate established in the LTFV investigation.¹² These cash deposit requirements, when imposed, shall remain in effect until further notice.

¹² See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act and 19 CFR 351.213(h) and 351.221(b)(5) of Commerce's regulations.

Dated: June 21, 2019.
Jeffrey I. Kessler,
Assistant Secretary for Enforcement and Compliance.

Appendix

List of Topics Discussed in the Issues and Decision Memorandum

I. Summary

II. Background

III. Scope of the Order

IV. Final Determination of No Shipments

V. Changes Since the Preliminary Results

VI. Discussion of Issues

Comment 1: Home Market Sales with Incomplete Matching Control Numbers

Comment 2: Home Market Gross Unit Price Currency

Comment 3: Home Market Credit Expense Adjustment

Comment 4: Quarterly Cost

Comment 5: Costs Recovery Test

Comment 6: Duty Drawback

Comment 7: U.S. Date of Sale

Comment 8: Constructed Export Price (CEP) Offset

Comment 9: SAS Programing Errors

VII. Recommendation

[FR Doc. 2019-13728 Filed 6-26-19; 8:45 am]

BILLING CODE 3510-DS-P